NUCLEAR REGULATORY COMMISSION

Sunshine Act Meetings

AGENCY HOLDING THE MEETINGS: Nuclear Regulatory Commission [NRC-2013-0001]

DATE: Weeks of April 1, 8, 15, 22, 29, May 6, 2013

PLACE: Commissioners' Conference Room, 11555 Rockville Pike, Rockville, Maryland

STATUS: Public and Closed

Week of April 1, 2013

Tuesday April 2, 2013

9:25 a.m.

Affirmation Session (Public Meeting) (Tentative)

Motion to Quash Subpoena Filed by the Shaw Group, Inc. (Tentative)

This meeting will be webcast live at the Web address— www.nrc.gov

9:30 a.m.

Meeting with Organization of Agreement States (OAS) and Conference of Radiation Control Program Directors (CRCPD) (Public Meeting) (Contact: Cindy Flannery, 301-415-0223)

This meeting will be webcast live at the Web address— www.nrc.gov

Week of April 8, 2013—Tentative

There are no meetings scheduled for the week of April 8, 2013.

Week of April 15, 2013—Tentative

There are no meetings scheduled for the week of April 15, 2013.

Week of April 22, 2013—Tentative

Monday April 22, 2013

9:00 a.m.

Meeting with the Department of Energy Office of Nuclear Energy (Public Meeting) (Contact: Brett Rini, 301-251-7615)

This meeting will be webcast live at the Web address— www.nrc.gov

2:30 p.m.

Discussion of Management and Personnel Issues (Closed—Ex. 2 and 6)

Tuesday April 23, 2013

9:00 a.m.

Briefing on the Status of Lessons Learned from the Fukushima Dai'ichi Accident (Public Meeting) (Contact: William D. Reckley, 301-415-7490)

This meeting will be webcast live at the Web address— www.nrc.gov

Week of April 29, 2013—Tentative

There are no meetings scheduled for the week of April 29, 2013.

Week of May 6, 2013—Tentative

There are no meetings scheduled for the week of May 6, 2013.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 28, 2013.
Rochelle C. Bavol,
Policy Coordinator, Office of the Secretary.

[FR Doc. 2013-07700 Filed 3-29-13; 4:15 pm]

BILLING CODE 7590-01-P